DEPARTMENT OF THE INTERIOR

Fish and Wildlife Service

[FWS-R5-R-2011-N196; BAC-4311-K9-S3]

John Heinz National Wildlife Refuge at Tinicum, Delaware and Philadelphia Counties, PA; Draft Comprehensive Conservation Plan and Environmental Assessment

AGENCY: Fish and Wildlife Service, Interior.

ACTION: Notice of availability; request for comments.

SUMMARY: We, the U.S. Fish and Wildlife Service (we, the Service), announce the availability of a draft comprehensive conservation plan and environmental assessment (CCP/EA) for John Heinz National Wildlife Refuge (NWR) at Tinicum, located in Delaware and Philadelphia Counties, Pennsylvania, for public review and comment. The draft CCP/EA describes our proposal for managing the refuge for the next 15 years.

Also available for public review and comment are the draft findings of appropriateness and draft compatibility determinations for uses to be allowed upon initial completion of the plan, if alternative B is selected, and the draft habitat management plan. These are included as appendix B and appendix C, respectively, in the draft CCP/EA.

DATES: To ensure consideration, please send your comments no later than April 23, 2012. We will announce upcoming public meetings in local news media, via our project mailing list, and on our regional planning Web site: http://www.fws.gov/northeast/planning/John%20Heinz/ccphome.html.

ADDRESSES: You may submit comments or requests for copies or more information by any of the following methods. You may request hard copies or a CD-ROM of the documents.

Email: northeastplanning@fws.gov. Please include “John Heinz NWR Draft CCP” in the subject line of the message.

Fax: Attn: Lia McLaughlin, 413-253-8468.

U.S. Mail: Lia McLaughlin, Natural Resource Planner, U.S. Fish and Wildlife Service, 300 Westgate Center Drive, Hadley, MA 01035.

In-Person Drop-off, Viewing, or Pickup: Call 215-365-3118 to make an appointment (necessary for view/pickup only) during regular business hours at 8601 Lindbergh Boulevard, Philadelphia, PA 19152. [For more information on locations for viewing or obtaining documents, see “Public Availability of Documents” under SUPPLEMENTARY INFORMATION.]

FOR FURTHER INFORMATION CONTACT: Gary Stolz, Refuge Manager, phone: 215-365-3118, or Lia McLaughlin, Planning Team Leader, phone: 413-253-8575; email: northeastplanning@fws.gov.

SUPPLEMENTARY INFORMATION:

Introduction

With this notice, we continue the CCP process for John Heinz NWR. We started this process through a notice in the Federal Register (75 FR 25285; May 7, 2010).

John Heinz NWR was established in 1972 to preserve and restore the natural area known as Tinicum Marsh, to promote environmental education, and to afford visitors an opportunity to study wildlife in its natural habitat. The total approved acquisition boundary encompasses 1,200 acres along the Delaware River in Pennsylvania. Currently, John Heinz NWR includes 993 acres of freshwater tidal marsh, open water, grassland, and forest habitats. It is an important migratory stopover for birds along the Atlantic Flyway, and provides habitat for State-listed threatened and endangered species such as the red-bellied turtle (Pseudemys rubriventris). The refuge offers unique opportunities for environmental education and interpretation in an urban setting. Visitors to the refuge also participate in wildlife observation, photography, and fishing.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started pre-planning for the John Heinz NWR CCP in January 2010. In April 2010, we distributed our first newsletter and press release announcing our intent to prepare a CCP for the refuge. In May through June 2010, we had a formal public scoping period. The purpose of the public scoping period was to solicit comments from the community and other interested parties on the issues and impacts that should be evaluated in the draft CCP/EA. To help solicit public comments, we held two public meetings at the refuge during the formal public scoping period. Throughout the rest of the planning process, we have conducted additional outreach by participating in community meetings, events, and other public forums, and by requesting public input on managing the refuge and its programs. We received comments on topics such as the potential effects of climate change, improving biological connectivity, invasive species control, environmental contaminants, environmental education programs, and other public uses of the refuge.

CCP Alternatives We Are Considering

During the public scoping process, we, the Pennsylvania Game Commission, other governmental partners, and the public, raised several issues. To address these issues, we developed and evaluated three alternatives in the draft CCP/EA. Here we present a brief summary of each of the alternatives; a full description of each alternative is in the draft CCP/EA.

Alternative A (Current Management)

Alternative A (current management) satisfies the National Environmental Policy Act (40 CFR 1506.6(b)) requirement of a “No Action” alternative, which we define as “continuing current management.” It describes our existing management priorities and activities, and serves as a baseline for comparing and contrasting alternatives B and C. It would maintain our present levels of approved refuge staffing and the biological and visitor programs now in place. We would continue to focus on providing native tidal marsh habitat for migrating and nesting wading birds; wintering marshbirds, waterfowl, and shorebirds; and other wildlife. We would also continue to actively control invasive species, manage grassland habitats, and maintain dikes and water levels in the impoundment. Our environmental education program would continue to focus on providing training for teachers so they could guide field trips on refuge property.

Alternative B (Focus on Environmental Education for Urban Youth)

This alternative is the Service-preferred alternative. It combines the actions we believe would most effectively achieve the refuge's purposes, vision, and goals, and respond to the issues raised during the scoping period. Under alternative B, we would expand our freshwater tidal marsh restoration efforts, implement additional forest habitat restoration and management efforts, and increase monitoring efforts for species and for climate change effects. Our environmental education program would focus on expanding staff-led and volunteer-led programs for urban youth. We would also develop environmental education programs that focus on this audience, and work to develop long-term relationships with schools and school districts. We would work to expand environmental interpretation opportunities and infrastructure on the refuge as well.

Alternative C

Alternative C would focus on restoring degraded forests and converting specific grassland areas to shrubland habitat. As in alternative B, we would emphasize invasive species management, freshwater tidal marsh restoration, and monitoring for climate change adaptation. However, under alternative C, we would delay much of these efforts to more fully assess the potential effects of climate change and propose restoring all of the impoundment to tidal marsh. Under alternative C, environmental educational programming would concentrate on providing high school and college-level programs focused on encouraging and training the next generation of conservation professionals and environmentally concerned citizens. We would also focus on playing a more regional role in conservation efforts.

Public Availability of Documents

In addition to any methods in ADDRESSES, you can view or obtain documents at the following locations:

• Our Web site: http://www.fws.gov/northeast/planning/John%20Heinz/ccphome.html.

• Public Library: the Northeast Regional Library, located at 2228 Cottman Avenue, Philadelphia, Pennsylvania 19149, during regular library hours.

Submitting Comments/Issues for Comment

We are seeking substantive comments, particularly on the following issues:

• Issue 1—Our environmental education program;

• Issue 2—Management and restoration options for the refuge's impoundment; and,

• Issue 3—Partnership opportunities.

We consider comments substantive if they:

• Question, with reasonable basis, the accuracy of the information in the document;

• Question, with reasonable basis, the adequacy of the EA;

• Present reasonable alternatives other than those presented in the EA; and/or

• Provide new or additional information relevant to the EA.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: January 25, 2012.
Wendi Weber,
Regional Director, Northeast Region, U.S. Fish and Wildlife Service, Hadley, MA 01035.

[FR Doc. 2012-6892 Filed 3-21-12; 8:45 am]

BILLING CODE 4310-55-P